DEPARTMENT OF TRANSPORTATION

Federal Railroad Administration

49 CFR Part 229

[Docket No. FRA-2003-16357, Notice No. 2]

RIN 2130-AB34

Locomotive Event Recorders

AGENCY: Federal Railroad Administration (FRA), Department of Transportation (DOT).

ACTION: Proposed rule; notice of public hearing and extension of comment period.

SUMMARY: By notice of proposed rulemaking (NPRM) published on June 30, 2004 (69 FR 39774), FRA proposed revisions to the regulations governing locomotive event recorders in order to improve the crashworthiness of railroad locomotive event recorders and to enhance the quality of information available for post-accident investigations. In that document, FRA announced that it expected to be able to resolve this rulemaking without a public, oral hearing but indicated that if it received a specific request for a public, oral hearing, one would be scheduled. In response to that document, several commenters requested the opportunity for a public, oral hearing, and one commenter sought an extension in the time for submitting written comments. This document grants those requests.

DATES: (1) Comments: Comments must be received by October 11, 2004, unless information received at the public hearing indicates a need to further extend this time period.

(2) Public Hearing: A public hearing will be held on September 30, 2004, beginning at 10 a.m. at the location listed below to provide interested parties the opportunity to comment on the proposed revisions contained in the NPRM.

Any person wishing to participate in the public hearing should notify FRA's Docket Clerk by mail at the address provided below at least five working days prior to the date of the hearing and submit three copies of the oral statement that he or she intends to make at the hearing. The notification should identify the party the person represents, and the particular subject(s) the person plans to address. The notification should also provide the Docket Clerk with the participant's mailing address. FRA reserves the right to limit participation in the hearings of persons who fail to provide such notification.

ADDRESSES: (1) Comments: Comments related to Docket No. FRA-2003-16357 may be submitted by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC between 9 a.m. and 5 p.m. Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov including any personal information. FRA wishes to inform all potential commenters that anyone is able to search the electronic form of all comments received into any agency docket by the name of the individual submitting the comment (or signing the comment, if submitted on behalf of an association, business, labor union, etc.). You may review DOT's complete Privacy Act Statement in the Federal Register published on April 11, 2000 (Volume 65, Number 70; Pages 19477-78) or you may visit http://dms.dot.gov.

(2) Public Hearing: A hearing to provide interested parties the opportunity to comment on the proposed revisions contained in the NPRM will be held in Conference Room 1 located on the 7th floor at 1120 Vermont Avenue, NW., Washington, DC 20005.

(3) FRA Docket Clerk: Written notification of a party's desire to participate in the public hearing should identify the docket number and must be submitted to the Docket Clerk, Office of Chief Counsel, Federal Railroad Administration, RCC-10, Mail Stop 10, 1120 Vermont Avenue, NW., Washington, DC 20005.

(4) DOT Docket: For access to the docket to read background documents or comments received, go to http://dms.dot.gov at any time or to PL-401 on the plaza level of the Nassif Building, 400 Seventh Street, SW., Washington, DC between 9 a.m. and 5 p.m. Monday through Friday, except Federal Holidays.

FOR FURTHER INFORMATION CONTACT: Edward W. Pritchard, Director, Office of Safety Assurance and Compliance, RRS-10, Mail Stop 25, Federal Railroad Administration, Department of Transportation, 1120 Vermont Avenue, NW., Washington, DC 20590 (telephone 202-493-6247), or Thomas J. Herrmann, Trial Attorney, Office of Chief Counsel, Mail Stop 10, Federal Railroad Administration, 1120 Vermont Avenue, NW., Washington, DC 20590 (telephone 202-493-6036).

SUPPLEMENTARY INFORMATION: The public hearing will be informal and will be conducted in accordance with FRA's Rules of Practice (49 CFR 211.25) by representatives designated by FRA. FRA's representatives will make opening statements outlining the scope of the hearing, as well as any additional procedures for the conduct of the hearing. The hearing will be a non-adversarial proceeding in which all interested parties will be given the opportunity to express their views regarding this NPRM, without cross-examination. After all initial statements have been completed, those persons wishing to make brief rebuttal statements will be given an opportunity to do so in the same order in which initial statements were made.

Issued in Washington, DC, on September 2, 2004.
Betty Monro,
Acting Federal Railroad Administrator.

[FR Doc. 04-20416 Filed 9-3-04; 1:49 pm]

BILLING CODE 4910-06-P